DEPARTMENT OF STATE

[Public Notice 6743]

Shipping Coordinating Committee; Notice of Meeting: Corrected Notice

In a Federal Register notice dated September 9, 2009 (74 FR 46476), the Shipping Coordinating Committee (SHC) announced a meeting to be held at 11 a.m. on Wednesday, September 23, 2009, in Room 1422 of the United States Coast Guard Headquarters Building, 2100 Second Street, SW., Washington, DC 20593-0001. This notice corrects the title and the agenda only. This is a meeting of the advisory committee. The corrected agenda follows.

The primary purpose of the meeting is to prepare for the ninety-sixth Session of the International Maritime Organization (IMO) Legal Committee (LEG) to be held be held at the IMO Headquarters, United Kingdom, from October 5 to October 9, 2009.

The primary matters to be considered include:

—Provision of financial security;

—Fair treatment of seafarers in the event of a maritime accident;

—International Convention on Civil Liability for Bunker Oil Pollution; Damage, 2001: implementation of the Convention;

—Piracy: review of national legislation;

—Matters arising from the one hundred and second regular session of the Council;

—Technical co-operation activities related to maritime legislation;

—Review of the status of conventions and other treaty instruments adopted as a result of the work of the Legal Committee;

—Work programme.

Instructions to members of the public wishing to attend this meeting were included in the original Notice.

Additional information regarding this and other IMO SHC public meetings may be found at: http://www.uscg.mil/hq/cg5/imo.

Dated: September 10, 2009.
J. Trent Warner,
Executive Secretary, Shipping Coordinating Committee, Department of State.

[FR Doc. E9-22310 Filed 9-15-09; 8:45 am]

BILLING CODE 4710-09-P